SMALL BUSINESS ADMINISTRATION

[Disaster Declaration #16031 and #16032; MISSOURI Disaster Number MO-00097]

Presidential Declaration Amendment of a Major Disaster for the State of Missouri

AGENCY: U.S. Small Business Administration.

ACTION: Amendment 2.

SUMMARY: This is an amendment of the Presidential declaration of a major disaster for the State of Missouri (FEMA-4451-DR), dated 07/09/2019.

Incident: Severe Storms, Tornadoes, and Flooding.

Incident Period: 04/29/2019 through 07/05/2019.

DATES: Issued on 08/05/2019.

Physical Loan Application Deadline Date: 09/09/2019.

Economic Injury (EIDL) Loan Application Deadline Date: 04/09/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Missouri, dated 07/09/2019, is hereby amended to include the following areas as adversely affected by the disaster:

Primary Counties (Physical Damage and Economic Injury Loans): Callaway, Jefferson, Lewis, McDonald, Newton, Saline.

Contiguous Counties (Economic Injury Loans Only):

Missouri: Barry, Clark, Knox, Marion, Saint Francois, Sainte Genevieve, Shelby, Washington.

Arkansas: Benton.

Illinois: Adams, Hancock, Monroe.

Oklahoma: Delaware, Ottawa.

All other information in the original declaration remains unchanged.

(Catalog of Federal Domestic Assistance Number 59008)

Rafaela Monchek,
Acting Associate Administrator for Disaster Assistance.

[FR Doc. 2019-17275 Filed 8-12-19; 8:45 am]

BILLING CODE 8026-03-P